DEPARTMENT OF TRANSPORTATION

Surface Transportation Board

[STB Docket No. AB-183 (Sub-No. 4X); STB Docket No. AB-290 (Sub-No. 301X)]

Union Railroad Company—Abandonment Exemption—in Allegheny County, PA; Norfolk Southern Railway Company—Discontinuance of Trackage Rights Exemption—in Allegheny County, PA

On February 5, 2008, Union Railroad Company (URR) and Norfolk Southern Railway Company (NSR) (collectively, petitioners) jointly filed with the Surface Transportation Board (Board) a petition under 49 U.S.C. 10502 for exemption from the provisions of 49 U.S.C. 10903 for URR to discontinue service and abandon and for NSR to discontinue trackage rights over a 1.34-mile line of railroad between South Duquesne, PA, and McKeesport, PA, in Allegheny County, PA. The line extends from McKeesport Branch Station 0+00 (Duquesne Branch Station 97+26) at the point of switch for turnout D-60, to McKeesport Branch Station 70+78 at the point of switch for turnout UM-1, and includes the Riverton Railroad Bridge (Riverton Bridge) that crosses the Monongahela River at Monongahela milepost 14.3. The line traverses U.S. Postal Service Zip Codes 15110 and 15132, and includes no stations.

Petitioners state that, based on information in their possession, the line does not contain federally granted rights-of-way. Any documentation in petitioners' possession will be made available promptly to those requesting it.

The interest of railroad employees will be protected by the conditions set forth in Oregon Short Line R. Co.—Abandonment—Goshen, 360 I.C.C. 91 (1979).

By issuance of this notice, the Board is instituting an exemption proceeding pursuant to 49 U.S.C. 10502(b). A final decision will be issued by May 23, 2008 ¹ (sooner if petitioners' request for expedited handling can be accommodated).

¹ Petitioners seek expedited consideration of the petition, stating that the line proposed to be abandoned, including the Riverton Bridge, is intended to be used as a trail and would be the final link of a trail system that would connect Washington, DC and the City of Pittsburgh. According to petitioners, the official opening of the system is scheduled for on or about October 1, 2008. Petitioners state that, prior to the trail opening, construction would be required to prepare the line for use as a trail. Petitioners have confirmed that they are aware that removal of rail or railroad-related materials may not occur until completion of the exemption process, including compliance with any environmental or historic conditions that may be imposed.

Any offer of financial assistance (OFA) under 49 CFR 1152.27(b)(2) will be due no later than 10 days after service of a decision granting the petition for exemption. Each OFA must be accompanied by a $1,300 filing fee. See 49 CFR 1002.2(f)(25).

All interested persons should be aware that, following abandonment of rail service and salvage of the line, the line may be suitable for other public use, including interim trail use.² Any request for a public use condition under 49 CFR 1152.28 or for trail use/rail banking under 49 CFR 1152.29 will be due no later than March 17, 2008. Each trail use request must be accompanied by a $200 filing fee. See 49 CFR 1002.2(f)(27).

² As noted, petitioners intend that the line be developed for trail use. Petitioners state that URR, and its parent company United States Steel Corporation, have engaged in negotiations with Allegheny County and plan for URR to transfer title to the line to Allegheny County.

All filings in response to this notice must refer to STB Docket Nos. AB-183 (Sub-No. 4X) and AB-290 (Sub-No. 301X), and must be sent to: (1) Surface Transportation Board, 395 E Street, SW., Washington, DC 20423-0001; (2) for URR—John A. Vuono, Vuono & Gray, LLC, 310 Grant Street, Suite 2310, Pittsburgh, PA 15219; and (3) for NSR—Greg E. Summy, General Solicitor, Norfolk Southern Corp., Three Commercial Place, Norfolk, VA 23510-2191. Replies to petitioners' petition are due on or before March 17, 2008.

Persons seeking further information concerning abandonment procedures may contact the Board's Office of Governmental and Public Affairs at (202) 245-0230 or refer to the full abandonment or discontinuance regulations at 49 CFR part 1152. Questions concerning environmental issues may be directed to the Board's Section of Environmental Analysis (SEA) at (202) 245-0305. [Assistance for the hearing impaired is available through the Federal Information Relay Service (FIRS) at 1-800-877-8339.]

An environmental assessment (EA) (or environmental impact statement (EIS), if necessary) prepared by SEA will be served upon all parties of record and upon any agencies or other persons who commented during its preparation. Other interested persons may contact SEA to obtain a copy of the EA (or EIS). The EA in an abandonment proceeding normally will be made available within 60 days of the filing of the petition. The deadline for submission of comments on the EA generally will be within 30 days of its service. Here, SEA anticipates issuing the EA on March 5, 2008, and making comments due by April 4, 2008, in an effort to accommodate petitioners' request for expedited consideration.

Board decisions and notices are available on our Web site at: http://www.stb.dot.gov.

Decided: February 15, 2008.
By the Board, David M. Konschnik, Director, Office of Proceedings.
Anne K. Quinlan,
Acting Secretary.

[FR Doc. E8-3477 Filed 2-22-08; 8:45 am]

BILLING CODE 4915-01-P